DEPARTMENT OF THE TREASURY

Customs Service

Announcement of Changes to the Eligibility Requirements and Application Process for Participation in Remote Location Filing Prototype Two

AGENCY: Customs Service, Department of the Treasury.

ACTION: General notice.

SUMMARY: This notice announces two changes to Remote Location Filing Prototype Two. One change provides that line release entries are no longer permitted under this prototype. The other change simplifies the application process for participation in the prototype to a one-step procedure that will consolidate information collection and expedite application processing at Customs Headquarters. Current RLF filers do not need to re-apply to Customs Headquarters to continue participation in RLF Prototype Two, nor will they be required to submit additional port applications.

DATES: The changes to Customs second prototype of the Remote Location Filing program will go into effect February 25, 2003. Comments concerning these changes, or any other aspect of RLF, may be submitted to Customs at any time. Applications for participation in RLF Prototype Two will be accepted throughout the duration of the test program.

ADDRESSES: Written comments and applications to participate in the prototype should be addressed to the Remote Filing Team, Office of Field Operations, U.S. Customs Service, 1300 Pennsylvania Avenue, NW., Room 5.2-B, Washington, DC 20229. Comments may also be submitted via e-mail to Lisa.k.santana@customs.treas.gov.

FOR FURTHER INFORMATION CONTACT: For systems or automation issues: Eloisa Calafell (305) 869-2780 or Jackie Jegels (301) 893-6717. For operational or policy issues: Lisa K. Santana at (202) 927-4342 or via e-mail at Lisa.k.santana@customs.treas.gov.

SUPPLEMENTARY INFORMATION:

Background

RLF Authorized by the National Customs Automation Program (NCAP)

Title VI of the North American Free Trade Agreement Implementation Act, Pub. L. 103-182, 107 Stat. 2057 (December 8, 1993), contains provisions pertaining to Customs Modernization (107 Stat. 2170). Subpart B of Title VI of the Act concerns the National Customs Automation Program (NCAP), an electronic system for the processing of commercial imports. Within subpart B, section 631 of the Act added section 414 (19 U.S.C. 1414), which provides for Remote Location Filing (RLF), to the Tariff Act of 1930, as amended. RLF permits an eligible NCAP participant to elect to file electronically a formal or informal consumption entry with Customs from a remote location within the Customs territory of the United States other than the port of arrival, or from within the port of arrival with a requested designated examination site outside the port of arrival.

RLF Prototype Two

In accordance with § 101.9(b) of the Customs Regulations (19 CFR 101.9(b)), Customs has developed and tested two RLF prototypes.

RLF Prototype Two commenced on January 1, 1997. See document published in the Federal Register (61 FR 60749) on November 29, 1996. On December 7, 1998, Customs announced in the Federal Register (63 FR 67511) that Prototype Two would remain in effect until Customs concluded the prototype by notice in the Federal Register. On July 6, 2001, Customs announced in the Federal Register (66 FR 35693) changes to the eligibility requirements for participation in RLF Prototype Two which mandated that customs brokers hold a national permit. That notice also announced that the provisions of part 111 of the Customs Regulations (which set forth the regulations providing for the licensing of and granting of permits to customs brokers) were applicable to customs brokers participating in the RLF prototype. The July 6, 2001, document noted that all of the other RLF Prototype Two terms and conditions set forth in the December 7, 1998 document remained in effect.

Changes to RLF Prototype Two

Since the inception of RLF Prototype Two, there have been significant changes made to the RLF application process, as well as to the prototype's eligibility requirements. As a result, much of the information contained in previous Federal Register notices regarding the application process, participant selection, and eligibility requirements needs to be updated or is now obsolete. For these reasons, this notice contains a comprehensive and updated list of current RLF eligibility requirements and a description of the new one-step application process. Therefore, information contained in this notice regarding these subject areas supercedes the information set forth in the sections entitled “Eligibility Criteria,” “Prototype Two Applications,” and “Basis for Participant Selection” in the above-referenced Federal Register notices. All of the other RLF Prototype Two terms and conditions set forth in the above-referenced Federal Register notices remain in effect, except those explicitly changed by this document and described below.

I. No Line Release Entries Permitted Under RLF Prototype Two

RLF participants may not file using paper invoices or line release for RLF transactions. This prohibition is necessary to reflect the fact that RLF participants must possess a national permit and line release programs require a local permit.

II. RLF Prototype Two Eligibility Criteria

To be eligible to participate in RLF Prototype Two, a filer must have proven capability to provide electronically, on an entry-by-entry basis, the following: entry; entry summary; invoice information using the Electronic Invoice Program (EIP); and the payment of duties, fees, and taxes through the Automated Clearinghouse (ACH). See 19 U.S.C. 1414(a)(2). EIP includes modules of the Automated Broker Interface (ABI) that allow entry filers to electronically transmit detailed entry data and includes Automated Invoice Interface (AII) and Electronic Data Interchange for Administration, Commerce and Transportation (EDIFACT). In addition, the following requirements and conditions apply:

1. RLF participants must be operational on the ABI (see 19 CFR part 143, subpart A);

2. RLF participants must be operational on the ACH 30 days before applying for RLF (see 19 CFR 24.25);

3. RLF participants must be operational on the EIP prior to applying for RLF;

4. RLF participants must possess a National Permit (see 19 CFR 111.19(f));

5. The remote Customs location(s) to which a prospective RLF participant wishes to transmit RLF information must have received EIP/RLF training.

A current listing of RLF-trained locations, as well as other RLF information and updates, is available on the Customs Electronic Bulletin Board (CEBB), the Customs Administrative Message System (CAMS), and on the Customs Internet Web site at http://www.customs.gov;

6. RLF participants must maintain a continuous bond which meets or exceeds the national guidelines for bond sufficiency;

7. Only entry type 01 (consumption) and entry type 11 (informal) will be accepted for RLF;

8. Cargo release must be certified from the entry summary transaction data (EI);

9. RLF participants may not file using paper invoices or line release for RLF transactions;

(Note: EIP participants will be allowed to file Immediate Delivery releases for direct arrival road and rail freight at the land border using paper invoices under Line Release, Border Cargo Selectivity (BCS), or Cargo Selectivity (CS), in accordance with 19 CFR 142.21(a).)

10. Cargo that has been moved in-bond is not eligible for RLF but may be eligible for clearance under EIP; and

11. RLF participants must use other government agency (OGA) interfaces where available. It is the filer's responsibility to ensure that all OGA requirements are met for each entry filed under RLF. If an electronic interface is not available, contact your local RLF coordinator for possible alternative filing options.

In addition to the eligibility requirements described above, all RLF participants are reminded of their responsibility to provide accurate information to Customs, and of their responsibility to adhere to all laws, regulations, rules, restrictions and eligibility criteria that pertain to this program. Any RLF participant who violates any of the above conditions will be subject to all penalties available under the law including possible suspension from the prototype.

Participants are further reminded that participation in RLF Prototype Two is not confidential. Lists of approved participants will be made available to the public.

RLF Prototype Two Application Process

Applications for participation in RLF Prototype Two will be accepted on an ongoing basis and should be submitted to the Remote Filing Team, U.S. Customs Service, 1300 Pennsylvania Avenue, NW., Room 5.2B, Washington, DC 20229. Applications must contain the following information:

1. Filer name, point of contact, address, filer code and IRS #;

2. Site(s) from which RLF transmission originates (include port code);

3. Name of port(s) (including port code) to which RLF electronic filings will be transmitted; and

4. A sample of 5 entries filed using the Automated Invoice Interface (AII)/EIP, of varying complexity, that include: multiple lines, multiple invoices and an adjustment to the entered value (Delivered Duty Paid (DDP) and Cost, Insurance and Freight (CIF)).

After an application has been reviewed and evaluated, the applicant will receive an approval or denial letter from the Remote Filing Team, Customs Headquarters. An applicant will be permitted to begin filing entries to a remote location upon receipt of a letter from Customs granting approval to participate in RLF. If an approved RLF participant seeks to add additional ports or importers, they must notify their ABI client representative or the Headquarters coordinator for profile updates.

Dated: February 13, 2003.
Jayson P. Ahern,
Assistant Commissioner, Office of Field Operations.

[FR Doc. 03-4407 Filed 2-24-03; 8:45 am]

BILLING CODE 4820-02-P